NUCLEAR REGULATORY COMMISSION

Public Comment on the Allegations Program Under the New Regulatory Oversight Program

AGENCY: Nuclear Regulatory Commission.

ACTION: Request for public comment.

SUMMARY: The Nuclear Regulatory Commission (NRC) has proposed significant revisions to its process for overseeing the safety performance of commercial nuclear power plants that include the inspection, assessment, and enforcement program. As part of its proposal, the NRC staff established a new regulatory oversight framework with a set of performance indicators and associated thresholds, developed a new baseline inspection program that supplements and verifies the performance indicators, and created a continuous assessment process that includes a method for consistently determining the appropriate regulatory actions in response to varying levels of safety performance. The NRC also has a long established allegation program to provide a mechanism for individuals to identify safety and regulatory issues directly to the NRC. The NRC is soliciting comments from interested public interest groups, the regulated industry, States, and concerned citizens as to the functioning of the allegation process under the new reactor regulatory oversight program. The NRC staff will consider comments it receives in determining how the agency will pursue structuring the allegation program under the new reactor oversight process. At the conclusion of the public comment period, the NRC will schedule a public meeting to be held at the NRC Headquarters at 11545 Rockville Pike, Rockville, Maryland, to discuss the comments and options for revising the allegation program.

DATES: The comment period expires April 10, 2000. Comments received after this date will be considered if it is practical to do so, but the Commission is able to ensure consideration only for comments received on or before this date.

ADDRESSES: Comments may be submitted either electronically or via U.S. mail. Submit written comments to: Chief, Rules and Directives Branch, Division of Administrative Services, Office of Administration, Mail Stop: T-6 D59, U.S. Nuclear Regulatory Commission, Washington, DC 20555-0001. Hand deliver comments to: 11545 Rockville Pike, Rockville, Maryland, between 7:45 a.m. and 4:15 p.m. on Federal workdays. Copies of comments received may be examined at the NRC's Public Document Room, 2120 L Street, N.W. (Lower Level), Washington, DC. 20555. Electronic comments may be submitted via email to: NRCREP@NRC.gov

Copies of the Commission Paper dated November 23, 1999, entitled, “Impact of Changes to the Inspection Program for Reactors on Implementing the Allegation Program” (SECY-99-273) may be obtained at the following web site: http://www.nrc.gov/NRC/COMMISSION/SECYS/index.html. The Commission's direction to the staff may be obtained at: http://www.nrc.gov/NRC/COMMISSION/SRM/index.html. Information on the revised reactor oversight process may be obtained at: http://www.nrc.gov/NRR/OVERSIGHT/index.html.

Additional information on the inspection pilot program may be obtained from the NRC's Public Document Room at 2120 L St., NW, Washington, DC 20003-1527, telephone 202-634-3272.

FOR FURTHER INFORMATION CONTACT: Edward Baker, Agency Allegation Advisor, or Carl Mohrwinkel, Assistant Agency Allegation Advisor, Mail Stop: O-5 E7, Office of the Director, Office of Nuclear Reactor Regulation, U.S. Nuclear Regulatory Commission, Washington, DC 20555-0001, telephone Mr. Baker at 301-415-8529, or Mr.Mohrwinkel at 301-415-1293.

SUPPLEMENTARY INFORMATION:

Background

To encourage individuals to identify safety concerns, the allegation program includes provisions to protect the identity of the individual, to provide timely resolution of the issue(s), and to communicate the staff's understanding of the issue(s), status of the staff's review, and ultimate resolution of the issue(s) in a timely manner. For individuals who do not want the licensee or employer to know they raised an issue to the NRC, the agency's policy is to take all reasonable measures to protect the identity of the individual. Under the current program, an allegation is defined as “A declaration, statement, or assertion of impropriety or inadequacy associated with NRC-regulated activities, the validity of which has not been established.” Historically, the staff has interpreted this definition very broadly and not set a threshold for placing issues in the allegation program, as long as the issues involve an area regulated by the NRC, were not already known by the staff to be true or valid, and were not covered by another process, e.g., petitions processed under Section 2.206 of Title 10 of the Code of Federal Regulations (2.206 petitions).

In developing the revised reactor oversight process, the staff integrated the use of performance indicators and inspections. Using a risk-informed approach, the staff was able to focus the baseline inspection program on inspecting risk-significant areas that are not adequately covered by performance indicators. The overall objective of the program is to assure licensee performance meets the objectives for each of the associated cornerstones of safety. Within the baseline inspection program there are three basic types of inspection. Inspections are (1) used to verify performance in areas that are not measured by a performance indicator, (2) augment the information provided by performance indicators that do not sufficiently measure performance in a cornerstone area, and (3) verify the accuracy and completeness of the data used as the basis for performance indicators used to fully measure performance of a cornerstone area. The end result is that the scope of activities being inspected is more clearly defined and risk informed. There is also less flexibility within the baseline inspection program to inspect issues that emerge from allegations if they do not relate to a stated inspectable area objective.

Conducting an inspection or an evaluation to quickly resolve a safety significant allegation is consistent with the risk informed approach of the revised reactor oversight process. However, the allegation program's emphasis on timely resolution places a similar, and only slightly lesser, burden on the staff for timely resolution of issues with less safety or risk significance. For these issues, staff resolution is driven by the timeliness goal, which was established to be responsive to the alleger, rather than being risk-informed. For those allegations requiring inspection, this often results in revising inspection schedules or scheduling additional inspections to meet the timeliness goal, when the safety or risk significance associated with the issue doesn't warrant that kind of response, even if the issue is assumed to be valid. For those allegations that are referred to other agencies or to licensees for evaluation and response back to the NRC, this may result in redirecting resources from work activities involving higher safety or risk significance in order to meet NRC's requested response date.

Another consequence of implementing the baseline inspection program is that there is a greater potential the reactor licensees will know when an inspection is allegation-related. For allegations that involve issues outside the inspectable areas or are reviewed during inspections that were not on the inspection schedule, it is likely that the licensee or employer will question why the staff is conducting the inspection, unless there has been an event that warrants a reactive inspection. While the staff intends to continue its policy of not informing the licensee when inspections are allegation-related, it is likely the licensee or employer will be able to determine when that is the case. This may increase the potential that a licensee or employer will be able to identify who submitted an allegation to the NRC, based on the area being inspected and its similarity to issues previously raised within the licensee's organization. As a result, individuals may be less inclined to provide safety or regulatory issues to the NRC or they may provide issues to the NRC without first raising the issue internally. Neither of these outcomes is desirable.

Scope of the Public Comment Period and Questions

This public comment period will focus on obtaining industry and public views on the allegation program as it may exist under the new oversight process. To assist respondents the following questions are included as a guide. Comments should be as specific as possible and the use of examples is encouraged.

• Which of the four Options contained in the Commission paper will strike the best balance between the efficient use of agency resources and the need for allegers to feel the NRC will address their issue(s) and protect their identity, if they so desire?

• Does one of the Options for implementing the allegation program provide more adequate assurance that the NRC can be more certain that through information provided by allegers, plants are being operated safely?

• Does one of the Options for implementing the allegation program under the new oversight process enhance public confidence by increasing the predictability, consistency, clarity and objectivity of the NRC's allegation process?

• Does one of the Options for implementing the allegations program under the new oversight process improve the efficiency and effectiveness of the regulatory process focusing agency resources on those issues with the most safety significance?

• Does one of the Options for implementing the allegation program under the new oversight process reduce unnecessary regulatory burden on licensees?

• What Options, beyond those stated in the Commission paper, should be considered?

• Should the Commission implement any changes in the allegation program for all reactor licensees or should any changes be implemented in a pilot program before being implemented at all reactor facilities?

Dated at Rockville, Maryland, this 3rd day of February 2000.
For the Nuclear Regulatory Commission.
Edward T. Baker III,
Agency Allegations Advisor, Office of Nuclear Reactor Regulation.

[FR Doc. 00-2929 Filed 2-8-00; 8:45 am]

BILLING CODE 7590-01-P